SECURITIES AND EXCHANGE COMMISSION

[Release No. 34-48040; File No. SR-Phlx-2003-28]

Self-Regulatory Organizations; Order Approving a Proposed Rule Change by the Philadelphia Stock Exchange, Inc. To Retroactively Apply Its Broker-Dealer Transaction Fee for Equity Option Transactions for the Period From April 1, 2003 to April 10, 2003

June 17, 2003.

On April 28, 2003, the Philadelphia Stock Exchange, Inc. (“Phlx” or “Exchange”) filed with the Securities and Exchange Commission (“SEC” or “Commission”), pursuant to section 19(b)(1) of the Securities Exchange Act of 1934 (“Act”),¹ and Rule 19b-4 thereunder,² a proposed rule change to retroactively apply its broker-dealer transaction fee for equity option transactions for the period from April 1, 2003 to April 10, 2003. The proposed rule change was published for comment in the Federal Register on May 13, 2003.³ The Commission received no comment letters on the proposed rule change. This order approves the proposed rule change.

¹ 15 U.S.C. 78s(b)(1).

² 17 CFR 240.19b-4.

³ See Securities Exchange Act Release No. 47799 (May 6, 2003), 68 FR 25670.

After careful review, the Commission finds that the proposed rule change is consistent with the requirements of section 6 of the Act ⁴ and the rules and regulations thereunder applicable to a national securities exchange. Specifically, the Commission finds that the proposed rule change is consistent with section 6(b)(4) of the Act,⁵ which requires that the Exchange's rules provide for the equitable allocation of reasonable dues, fees and other charges among members and issuers and other persons using its facilities. The Commission believes that the proposed application of the lower broker-dealer transaction fee for block equity option transactions implemented on April 11, 2003 to transactions settling from April 1, 2003 to April 10, 2003 should establish reasonable execution costs for market participants during that period.

⁴ 15 U.S.C. 78f. In approving this rule, the Commission notes that it has considered the proposed rule's impact on efficiency, competition, and capital formation. 15 U.S.C. 78c(f).

⁵ 15 U.S.C. 78f(b)(4).

For this reason, the Commission finds that the proposed rule change is consistent with the requirements of the Act and rules and regulations thereunder.

It is therefore ordered, pursuant to section 19(b)(2) of the Act,⁶ that the proposed rule change (SR-Phlx-2003-28) is approved.

⁶ 15 U.S.C. 78s(b)(2).

For the Commission, by the Division of Market Regulation, pursuant to delegated authority.⁷
⁷ 17 CFR 200.30-3(a)(12).
Margaret H. McFarland,
Deputy Secretary.

[FR Doc. 03-15771 Filed 6-20-03; 8:45 am]

BILLING CODE 8010-01-P